ELECTION ASSISTANCE COMMISSION

Information Collection Activity; Proposed Information Collection; Comment Request

AGENCY: U.S. Election Assistance Commission (EAC).

ACTION: Notice and request for comments.

SUMMARY: The U.S. Election Assistance Commission has submitted the following information collection request (Voting System Test Laboratory Accreditation Program Manual) to the Office of Management and Budget (OMB) for review and clearance in accordance with the Paperwork Reduction Act of 1995. The information collection was previously published in the Federal Register on February 2, 2008, at 73 FR 6494. The notice allowed for a 60-day public comment period. No comments were received on this information collection; however, modifications were made to improve and clarify the information collection based on comments submitted to a request for substantive comments (73 FR 6495) and internal review of the document. The purpose of this notice is to allow an additional 30 days for public comments. Comments are encouraged and will be accepted until September 24, 2008. This process is conducted in accordance with 5 CFR 1320.10. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Written comments must be submitted on or before September 24, 2008.

ADDRESSES: Written comments and recommendations on the proposed information collection must be sent to:

OMB Reviewer: Alexander T. Hunt, Office of Management and Budget, Room 10235, New Executive Office Building, Washington, DC 20503, (202) 395-7316.

FOR FURTHER INFORMATION CONTACT: To request more information on this proposed information collection or to obtain a copy of the EAC's Voting System Test Laboratory Accreditation Program Manual, please contact Ms. Laiza N. Otero at (202) 566-2209 or via e-mail at lotero@eac.gov. You may also view the proposed collection instrument by visiting the EAC's Web site at http://www.eac.gov.

SUPPLEMENTARY INFORMATION: Title: Voting System Test Laboratory Accreditation Program Manual.

OMB Number: Pending.

Type of Review: Regular submission.

Needs and Uses: Section 231(b) of the Help America Vote Act (HAVA) of 2002 (42 U.S.C. § 15371(b)) requires that the EAC provide for the accreditation and revocation of accreditation of independent, non-federal laboratories qualified to test voting systems to Federal standards. Generally, the EAC considers for accreditation those laboratories evaluated and recommended by the National Institute of Standards and Technology (NIST) pursuant to HAVA Section 231(b)(1). However, consistent with HAVA Section 231(b)(2)(B), the Commission may also vote to accredit laboratories outside of those recommended by NIST upon publication of an explanation of the reason for any such accreditation. In order to meet its statutory requirements under HAVA § 15371(b), the EAC has developed the EAC's Voting System Test Laboratory Accreditation Program. The procedural requirements of the program are established in the proposed information collection, the EAC Voting System Test Laboratory Accreditation Program Manual. Although participation in the program is voluntary, adherence to the program's procedural requirements is mandatory for participants. The procedural requirements of this Manual will supersede any prior laboratory accreditation requirements issued by the EAC. This manual shall be read in conjunction with the EAC's Voting System Testing and Certification Program Manual (OMB 3265-0004).

Affected Public: Voting system test laboratories.

Estimated Number of Respondents: 8.

Total Annual Responses: 8.

Estimated Total Annual Burden Hours: 200 hours.

Thomas R. Wilkey,
Executive Director, U.S. Election Assistance Commission.

[FR Doc. E8-19066 Filed 8-22-08; 8:45 am]

BILLING CODE 6820-KF-P